DEPARTMENT OF HOMELAND SECURITY

Coast Guard

[Docket No. USCG-2009-0446]

Merchant Mariner Medical Advisory Committee; Vacancies

AGENCY: Coast Guard, DHS.

ACTION: Notice of committee establishment and request for applications.

SUMMARY: The Secretary of Homeland Security is establishing the Merchant Mariner Medical Advisory Committee (MMMAC) under authority of 6 U.S.C. 451 and shall operate under the provisions of the Federal Advisory Committee Act (FACA) (5 U.S.C. App.). Individuals interested in serving on this committee are invited to apply for membership.

DATES: Completed application forms for membership should reach the Coast Guard on or before August 3, 2009.

ADDRESSES: You may request a copy of the charter for the Merchant Mariner Medical Advisory Committee or a form to apply for membership by writing to Captain Eric Christensen, Designated Federal Officer (DFO) of the Merchant Mariner Medical Advisory Committee, 2100 SW 2nd St., Washington, DC 20593. Completed applications should be sent to the DFO at this same address. A copy of this notice, the Committee charter, and the application form are available in our online docket, USCG-2009-0446, at http://www.regulations.gov.

FOR FURTHER INFORMATION CONTACT: Lieutenant J. Court Smith, Assistant DFO of the Merchant Mariner Medical Advisory Committee; telephone 1-202-372-1128 or james.c.smith1@uscg.mil.

SUPPLEMENTARY INFORMATION: Establishment of the Merchant Mariner Medical Advisory Committee. The Federal Advisory Committee Act (FACA), 5 U.S.C. App. (Pub. L. 92-463), governs the establishment of committees by Federal agencies. This committee will be established as a discretionary advisory committee that will operate in accordance with the provisions of the Federal Advisory Committee Act (FACA) (5 U.S.C. App.) and pursuant to the provisions of 5 U.S.C. 451. The Committee will advise, consult with, report to, and make recommendations to the Secretary on matters relating to the medical evaluation process and evaluation criteria for medical certification of merchant mariners. This may include but is not limited to:

• Commenting on Physical Qualification Requirements;

• Developing, communicating, and considering expert based and scientific recommendations;

• Examining such other matters, related to those above, that the Secretary may charge the Committee with addressing;

• Conducting studies, inquiries, workshops, and seminars in consultation with individuals and groups in the private sector and/or state and local government jurisdictions;

• Reviewing work from other agencies' medical advisory boards to recommend uniform guidelines for medical/functional fitness for operators of commercial vessels.

The Committee will meet at least once a year. It may also meet for additional purposes. Subcommittees and working groups may also meet to consider specific problems.

Request for Applications

The Committee will be composed of fourteen members. Ten Committee members shall be health-care professionals with particular expertise, knowledge, or experience regarding the medical examinations of merchant mariners or occupational medicine. Four Committee members shall be professional mariners with knowledge and experience in mariners' occupational requirements.

Initial appointments to the MMMAC shall be for terms of office of one, two, or three years. Thereafter, members shall serve terms of three years. Approximately one-third of members' terms of office shall expire each year. A member appointed to fill an unexpired term shall serve the remainder of that term. All members may serve more than one term. In the event the MMMAC terminates, all appointments to the committee shall terminate.

In support of the policy of the Coast Guard on gender and ethnic diversity, we encourage qualified women and members of minority groups to apply.

All members shall serve as Special Government Employees (SGE), as defined in section 202(a) of title 18, United States Code. As a candidate for appointment as an SGE, applicants are required to complete a Confidential Financial Disclosure Report (OGE Form 450). A completed OGE Form 450 is not releasable to the public except under an order issued by a Federal court or as otherwise provided under the Privacy Act (5 U.S.C. 552a). Only the Designated Agency Ethics Official (DAEO) or the DAEO's designate may release a Confidential Financial Disclosure Report.

If you are interested in applying to become a member of the Committee, send a completed application to Captain Eric Christensen, DFO of the MMMAC. Send the application in time for it to be received by the DFO on or before August 3, 2009.

A copy of the application form is available in the docket for this notice. To visit our online docket, go to http://www.regulations.gov, enter the docket number for this notice USCG-2009-0446 in the Search box, and click “Go >>.” Applicants may also request an application form via fax at 1-202-372-1918.

Dated: June 3, 2009.
J. A. Watson,
Rear Admiral, U.S. Coast Guard, Director, Prevention Policy.

[FR Doc. E9-13634 Filed 6-9-09; 8:45 am]

BILLING CODE 4910-15-P